DEPARTMENT OF COMMERCE

National Oceanic and Atmospheric Administration

[I.D. 072904D]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Scallop Oversight Committee and Herring Advisory Panel in August and September, 2004 to consider actions affecting New England fisheries in the exclusive economic zone (EEZ). Recommendations from these groups will be brought to the full Council for formal consideration and action, if appropriate.

DATES: The meetings will be held on August 20, 2004 and September 7, 2004. See SUPPLEMENTARY INFORMATION for specific dates and times.

ADDRESSES: The meetings will be held in Portland, ME and Peabody, MA. See SUPPLEMENTARY INFORMATION for specific locations.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Meeting Dates and Agendas

Friday, August 20, 2004 at 10 a.m. Herring Advisory Panel Meeting.

Location: Holiday Inn by the Bay, 88 Spring Street, Portland, ME 04101; telephone: (207) 775-2311.

The advisory panel will discuss development and packaging of alternatives for consideration in Amendment 1 to the Herring Fishery Management Plan. They will review limited access alternatives proposed in Amendment 1 and develop preliminary Advisory Panel recommendations regarding the packaging of alternatives for Amendment 1, including possible elimination of some alternatives/options. Also on the agenda will be the review of the Amendment 1 timeline and process for completing the alternatives and analyses.

Tuesday, September 7, 2004 at 9:30 a.m. Scallop Oversight Committee Meeting.

Location: Holiday Inn, One Newbury Street, Peabody, MA 01960; telephone: (978) 535-4600.

The committee will discuss whether to initiate a framework action to adjust open area days at sea allocations in 2005, to change measures to monitor or control fishing activity by vessels holding general category scallop permits, and to require potential new sea turtle protection measures and actions to address other management concerns as necessary. The Plan Development Team will also provide management advice about how the Council should respond to the recent stock assessment, which found that overfishing was occurring on the sea scallop resource. The committee may also discuss long-term planning issues for the Stock Assessment and Fishery Evaluation (SAFE) Report, the next regular framework adjustment for the 2006 fishing year, and possibly future plan amendments.

Although non-emergency issues not contained in this agenda may come before these groups for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: July 30, 2004.
Alan D. Risenhoover,
Acting Director, Office of Sustainable Fisheries, National Marine Fisheries Service.

[FR Doc. E4-1729 Filed 8-3-04; 8:45 am]

BILLING CODE 3510-22-S